DEPARTMENT OF ENERGY

Federal Energy Regulatory Commission

[Docket Nos. RP01-399-000, CP99-94-004 and RP96-366-014]

Florida Gas Transmission Company; Notice of Compliance Filing

May 4, 2001.

Take notice that on May 1, 2001, Florida Gas Transmission Company (FGT) tendered for filing as part of its FERC Gas Tariff, Third Revised Volume No. 1, the following tariff sheets, with an effective date of May 1, 2001:

Third Revised Sheet No. 56

Second Revised Sheet No. 67

Third Revised Sheet No. 541

Third Revised Sheet No. 542

FGT states that on June 2, 1999, FGT filed a Stipulation and Agreement of Settlement (Settlement) in Docket Nos. CP99-94-000 and RP96-366-000, et al. resolving all non-environmental issues in its Phase IV Expansion proceeding. The Commission issued an order approving the Settlement on July 30, 1999.

FGT states that in the Settlement, among other provisions, that it would file revised tariff sheets prior to the in-service date of the proposed Phase IV Expansion to provide that firm transportation service under FT's Rate Schedule FTS-2 will reflect seasonal entitlements for four seasons. Currently, FTS-2 service includes defined levels of seasonal Maximum Daily Transportation Quantities (MDTQ) for only two seasonal periods: (1) November through April and (2) May through October. In the Settlement, the parties agreed to change the two seasons to four seasons: (1) October, (2) November through March, (3) April, and (4) May through September. Increasing the seasons to four allows FTS-2 service agreements to have the same seasonal periods as service agreements for firm transportation service under FGT's Rate Schedule FTS-1.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11771 Filed 5-9-01; 8:45 am]

BILLING CODE 6717-01-M